DEPARTMENT OF TRANSPORTATION

Surface Transportation Board

[Docket No. AB 1109X]

City of Belfast, Me.—Abandonment Exemption—in Belfast, Me.

On January 10, 2014,¹ the city of Belfast, Maine (the City) filed with the Surface Transportation Board (Board) a petition under 49 U.S.C. 10502 for exemption from the prior approval requirements of 49 U.S.C. 10903 to abandon approximately 2.0 miles of rail line known as the Belfast and Moosehead Lake Railroad, extending between milepost 0.33 in downtown Belfast at the U.S. Route 1 overpass and milepost 2.33, located approximately at Oak Hill Road in the City of Belfast, Waldo County, Me. (the Line). The Line traverses United States Postal Service Zip Code 04915 and includes the station of City Point at milepost 2.16.²

¹ The City originally submitted a verified notice of exemption seeking abandonment of the Line on June 25, 2013. However, this abandonment proceeding was held in abeyance on August 13, 2013, to permit the City to seek the requisite regulatory authority to acquire the Line. City of Belfast, Me.—Acquis. Exemption—Certain Assets of Belfast & Moosehead Lake R.R., FD 35766 (STB Served Dec. 26, 2013). The acquisition exemption sought by the City in Docket No. FD 35766 became effective on January 9, 2014. On December 9, 2013, the City filed a verified statement and amendment in Docket No. AB 1109X asking the Board to convert the notice of exemption seeking abandonment into a petition for abandonment. By publication of this notice, the abandonment proceeding is removed from abeyance, and the petition for abandonment is deemed to have been filed on January 10, 2014.

² The City states that there has been no freight traffic on the Line since 1990.

The City states that, based on information in its possession, the Line does not contain federally granted rights-of-way. Any documentation in the City's possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued no later than April 30, 2014.

Any offer of financial assistance (OFA) under 49 CFR 1152.27(b)(2) will be due no later than May 9, 2014, or 10 days after service of a decision granting the petition for exemption, whichever occurs sooner. Each OFA must be accompanied by a $1,600 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than February 19, 2014.³ Each trail use request must be accompanied by a $250 filing fee. See 49 CFR 1002.2(f)(27).

³ The City states that it has determined that the best use of the line is a scenic recreational walking and bicycling trail and asks the Board to issue a notice of interim trail use (NITU). It is well established that OFAs to acquire rail lines for continued rail service or to subsidize rail operations take priority over interim trail use/rail banking. See, e.g., Mid-Michigan R.R.—Aban. Exemption—In Kent, Ionia, & Montcalm Cntys., Mich., AB 364 (Sub-No. 12X) (STB served Apr. 4, 2008). Thus, any NITU the Board may issue cannot take effect until after the OFA process has been allowed to proceed.

All filings in response to this notice must refer to Docket No. AB 1109X and must be sent to: (1) Surface Transportation Board, 395 E Street SW., Washington, DC 20423-0001; and (2) Kristin M. Collins, Kelly & Collins, LLC, 96 High Street, Belfast, ME 04915. Replies to the petition are due on or before February 19, 2014.

Persons seeking further information concerning abandonment procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). The EA in this abandonment proceeding was made available on January 24, 2014. The deadline for submission of comments on the EA is February 3, 2014.

Board decisions and notices are available on our Web site at WWW.STB.DOT.GOV.

Decided: January 27, 2014.
By the Board, Rachel D. Campbell, Director, Office of Proceedings.
Derrick A. Gardner,
Clearance Clerk.

[FR Doc. 2014-01884 Filed 1-29-14; 8:45 am]

BILLING CODE 4915-01-P